DEPARTMENT OF JUSTICE

Notice of Lodging of Proposed Consent Decree Under the Clean Air Act

On July 26, 2019, the Department of Justice lodged a proposed consent decree with the United States District Court for the District of Minnesota in the lawsuit entitled United States v. FilmTec Corporation, Civil Action No. 19-cv-1985.

The United States filed this lawsuit under the Clean Air Act. The United States' complaint seeks injunctive relief and civil penalties for violations of the regulations and permit that govern emissions of volatile organic compounds and hazardous air pollutants from the defendant's water filtration manufacturing facility in Edina, Minnesota. The consent decree requires the defendant to perform injunctive relief and pay a $250,000 civil penalty.

The publication of this notice opens a period for public comment on the consent decree. Comments should be addressed to the Deputy Assistant Attorney General, Environment and Natural Resources Division, and should refer to United States v. FilmTec Corporation, D.J. Ref. No. 90-5-2-1-11723. All comments must be submitted no later than thirty (30) days after the publication date of this notice. Comments may be submitted either by email or by mail:

To submit comments: | Send them to:
By email | pubcomment-ees.enrd@usdoj.gov.
By mail | Deputy Assistant Attorney General, U.S. DOJ—ENRD, P.O. Box 7611, Washington, DC 20044-7611.

During the public comment period, the consent decree may be examined and downloaded at this Justice Department website: https://www.justice.gov/enrd/consent-decrees.

We will provide a paper copy of the consent decree upon written request and payment of reproduction costs. Please mail your request and payment to: Consent Decree Library, U.S. DOJ—ENRD, P.O. Box 7611, Washington, DC 20044-7611.

Please enclose a check or money order for $16.50 (25 cents per page reproduction cost) payable to the United States Treasury. For a paper copy without the exhibits and signatures pages, the cost is $8.50.

Randall M. Stone,
Acting Assistant Section Chief, Environmental Enforcement Section, Environment and Natural Resources Division.

[FR Doc. 2019-16512 Filed 8-1-19; 8:45 am]

BILLING CODE 4410-15-P